DEPARTMENT OF EDUCATION

Office of Special Education and Rehabilitative Services; Overview Information; Assistive Technology Act of 1998, as Amended—National Activities—Data Collection and Reporting Assistance; Notice Inviting Applications for New Awards for Fiscal Year (FY) 2006

Catalog of Federal Domestic Assistance (CFDA) Number: 84.224B.

Dates: Applications Available: April 14, 2006.

Deadline for Transmittal of Applications: May 15, 2006.

Deadline for Intergovernmental Review: July 13, 2006.

Eligible Applicants: Public or private non-profit or for-profit organizations, including institutions of higher education that have personnel with—

(a) Documented experience and expertise in administering State assistive technology (AT) programs;

(b) Experience in collecting and analyzing data associated with implementing activities conducted by State AT programs;

(c) Expertise necessary to identify, collect, and analyze data elements needed to provide comprehensive reporting of activities and outcomes of State AT programs; and

(d) Experience in using data to provide reports to policymakers.

An eligible entity can demonstrate its experience and expertise with its own personnel or through proposed subcontracts with other entities that have personnel with the relevant experience and expertise.

Estimated Available Funds: $250,000.

Estimated Number of Awards: 1.

Note: The Department is not bound by any estimates in this notice.

Project Period: Up to 60 months.

Full Text of Announcement

I. Funding Opportunity Description

Purpose of Program: The Assistive Technology Act of 1998, as amended (AT Act), authorizes support for State AT programs that increase the availability of, funding for, access to, provision of, and training about AT devices and AT services. According to section 3(15) of the AT Act, the term “State AT program” means a program authorized under section 4 of the AT Act. Section 4 authorizes both the State Grant for AT program and the Alternative Financing Program under Title III of the Assistive Technology Act of 1998 as in effect prior to the enactment of the 2004 amendments. These programs are required to collect data and report on the activities they conduct to determine whether those activities are being conducted appropriately and successfully and to assess the outcomes of those activities. Section 6(b)(5) of the AT Act authorizes support to assist State AT Programs with this data collection and reporting.

Priority: We are establishing this priority for the FY 2006 grant competition only, in accordance with section 437(d)(1) of the General Education Provisions Act (GEPA).

Absolute Priority: For FY 2006 this priority is an absolute priority. Under 34 CFR 75.105(c)(3) we consider only applications that meet this priority.

This priority is:

Assistive Technology Act Data Collection and Reporting Assistance

This priority is for a project to develop, as necessary, implement, maintain, and update a data collection and reporting system for use by all State AT programs and the U.S. Department of Education.

The purpose of this system is to—

(a) Ensure that all States collect consistent, comparable, high-quality quantitative and qualitative data that validly and reliably reflect the activities conducted by State AT programs and the outcomes of those activities;

(b) Enable State AT programs and the U.S. Department of Education to access and analyze data for purposes of program monitoring, evaluation, planning, management, and improvement; and

(c) Provide data to the U.S. Department of Education for reporting to Congress and the public.

The project must—

(a) Assist entities that carry out State AT programs in developing and implementing effective data collection and reporting systems that—

(1) Focus on quantitative and qualitative data elements;

(2) Measure the outcomes of the activities described in section 4 of the AT Act that are implemented by the States;

(3) Measure the progress of the States toward achieving the measurable goals described in section 4(d)(3) of the AT Act;

(4) Provide States with the necessary information required under the AT Act or by the Secretary for reports described in section 4(f)(2) of the AT Act; and

(5) Help measure the accrued benefits of the activities to individuals who need AT devices and AT services;

(b) Develop, as appropriate, maintain, and update a data collection and reporting system capable of collecting consistent, high-quality qualitative and quantitative data on the activities conducted by all State AT programs and the outcomes of those activities. This system must—

(1) Be designed and implemented to collect and analyze data using accepted research methodologies for ensuring validity and reliability;

(2) Provide for analysis of aggregated and disaggregated data;

(3) Have the capacity to compare data across States;

(4) Meet standard guidelines for accessibility of software and Internet applications;

(5) Allow States and the U.S. Department of Education to independently access data at any time;

(6) Allow appropriate public access to data;

(7) Have the capacity to be appropriately modified or adapted to meet emerging or specialized needs; and

(8) Be able to incorporate relevant data from other data systems, as appropriate;

(c) Develop, as appropriate, maintain, and update the system with the input of directors of State AT programs, the entity conducting the National Assistive Technology Training and Technical Assistance Program, and other appropriate entities or individuals;

(d) Provide ongoing technical assistance to all States and the U.S. Department of Education on the use of this system;

(e) Provide technical assistance to all States on the development, use, and improvement of their State-level data collection infrastructures;

(f) Provide to States and the U.S. Department of Education data to meet State and Federal reporting requirements;

(g) Conduct analyses of data for planning, management, and improvement of State AT programs;

(h) Collaborate with the National Assistive Technology Training and Technical Assistance Program to use data for planning, management, and improvement of State AT programs; and

(i) Collaborate, as appropriate, with entities that maintain or have developed data collection systems for use by State AT programs.

Waiver of Proposed Rulemaking: Under the Administrative Procedure Act (5 U.S.C. 553) the Department generally offers interested parties the opportunity to comment on proposed priorities. Ordinarily, this practice would have applied to the absolute priority for the Assistive Technology Act Data Collection and Reporting Assistance. Section 437(d)(1) of GEPA (20 U.S.C. 1232(d)(1)), however, allows the Secretary to exempt from rulemaking requirements regulations governing the first grant competition under a new or substantially revised program authority. This is the first grant competition for this program under section 6(b)(5) of the AT Act and therefore qualifies for this exemption. In order to ensure timely grant awards, the Secretary has decided to forego public comment on the proposed absolute priority under section 437(d)(1). This absolute priority will apply to the FY 2006 grant competition only.

Program Authority: 29 U.S.C. 3001 et seq.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education only.

II. Award Information

Type of Award: Cooperative agreement.

Estimated Available Funds: $250,000.

Estimated Number of Awards: 1.

Note: The Department is not bound by any estimates in this notice.

Project Period: Up to 60 months.

III. Eligibility Information

1. Eligible Applicants: Public or private non-profit or for-profit organizations, including institutions of higher education that have personnel with—

(a) Documented experience and expertise in administering State AT programs;

(b) Experience in collecting and analyzing data associated with implementing activities conducted by State AT programs;

(c) Expertise necessary to identify, collect, and analyze data elements needed to provide comprehensive reporting of activities and outcomes of State AT programs; and

(d) Experience in using data to provide reports to policymakers.

An eligible entity can demonstrate its experience and expertise with its own personnel or through proposed subcontracts with other entities that have personnel with the relevant experience and expertise.

2. Cost Sharing or Matching: This program does not involve cost sharing or matching.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.224B.

Individuals with disabilities may obtain a copy of the application package in an alternative format (e.g., Braille, large print, audiotape, or computer diskette) by contacting the Grants and Contracts Services Team, U.S. Department of Education, 400 Maryland Avenue, SW., room 5075, Potomac Center Plaza, Washington, DC, 20202-2550. Telephone: (202) 245-7363. If you use a telecommunications device for the deaf (TDD), you may call the Federal Relay Service (FRS) at 1-800-877-8339.

2. Content and Form of Application Submission: Requirements concerning the content of an application, together with the forms you must submit, are in the application package for this competition.

Page Limit: The application narrative (Part III of the application) is where you, the applicant, address the selection criteria that reviewers use to evaluate your application. You must limit Part III to the equivalent of no more than 60 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

Our reviewers will not read any pages of your application that—

• Exceed the page limit if you apply these standards; or

• Exceed the equivalent of the page limit if you apply other standards.

3. Submission Dates and Times: Applications Available: April 14, 2006.

Deadline for Transmittal of Applications: May 15, 2006.

Applications for grants under this competition must be submitted electronically using the Electronic Grant Application System (e-Application) available through the Department's e-Grants system. For information (including dates and times) about how to submit your application electronically or by mail or hand delivery if you qualify for an exception to the electronic submission requirement, please refer to section IV. 6. Other Submission Requirements in this notice.

We do not consider an application that does not comply with the deadline requirements.

Deadline for Intergovernmental Review: July 13, 2006.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition must be submitted electronically, unless you qualify for an exception to this requirement in accordance with the instructions in this section.

a. Electronic Submission of Applications. Applications for grants under the Assistive Technology Act of 1998, as Amended—National Activities—Data Collection and Reporting Assistance—CFDA Number 84.224B must be submitted electronically using e-Application available through the Department's e-Grants system, accessible through the e-Grants portal page at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30 p.m., Washington, DC time, on the application deadline date. The e-Application system will not accept an application for this competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Jeremy Buzzell, U.S. Department of Education, 400 Maryland Avenue, SW., room 5025, Potomac Center Plaza, Washington, DC 20202-2800. FAX: (202) 245-7591.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the applicable following address:

By mail through the U.S. Postal Service:

U.S. Department of Education, Application Control Center, Attention: (CFDA Number 84.224B), 400 Maryland Avenue, SW., Washington, DC 20202-4260;

or

By mail through a commercial carrier:

U.S. Department of Education, Application Control Center—Stop 4260, Attention: (CFDA Number 84.224B), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application, by hand, on or before the application deadline date, to the Department at the following address: U.S. Department of Education, Application Control Center, Attention: (CFDA Number 84.224B), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The Government Performance and Results Act of 1993 (GPRA) directs Federal departments and agencies to improve the effectiveness of their programs by engaging in strategic planning, setting outcome-related goals for programs, and measuring program results against those goals. The goal of Assistive Technology Act Data Collection and Reporting Assistance is to develop, as necessary, implement, maintain, and update a data collection and reporting system for use by all State AT programs and the U.S. Department of Education. This system must provide for necessary analysis and reporting of data to be used for evaluation, planning, management, and improvement of State AT programs. In order to assess the success of the grantee in meeting these goals, in addition to other information the grantee's annual performance report must include a description of—

(a) State-specific and national technical assistance provided to State AT programs to support their data collection and reporting infrastructure, and the outcomes of that technical assistance as evidenced by improvement in those infrastructures;

(b) State-specific and national data analyses performed and how, in collaboration with the National Assistive Technology Training and Technical Assistance Program, these analyses were used for planning, management, and improvement of State AT programs; and

(c) Modifications or improvements to the system made as a result of feedback received from State AT programs and the U.S. Department of Education on the usability or content of the system or to address emerging needs.

VII. Agency Contact

For Further Information Contact: Jeremy Buzzell, U.S. Department of Education, 400 Maryland Avenue, SW., room 5025, Potomac Center Plaza, Washington, DC 20202-2800. Telephone: (202) 245-7319 or by e-mail: jeremy.buzzell@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 11, 2006.
John H. Hager,
Assistant Secretary for Special Education and Rehabilitative Services.

[FR Doc. E6-5597 Filed 4-13-06; 8:45 am]

BILLING CODE 4000-01-P